DEPARTMENT OF HOUSING AND URBAN DEVELOPMENT

[Docket No. FR-5481-N-06]

Notice of Proposed Information Collection; Comment Request, Entitlement and State Community Development Block (CDBG) Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: August 15, 2011.

ADDRESSES: Interested persons are invited to submit comments regarding this proposal. Comments should refer to the proposal by name and/or OMB Control Number and should be sent to: LaRuth Harper, Reports Management Officer, OTAM, Department of Housing and Urban Development, 451 7th Street, SW., Room 7233, Washington, DC 20410; telephone, 202-402-4696 (this is not a toll-free number), or e-mail Ms. Harper at Laruth.M.Harper@hud.gov.

FOR FURTHER INFORMATION CONTACT: Regina M. Montgomery at (202) 402-3593 (this is not a toll free number) for copies of the proposed forms and other available documents.

SUPPLEMENTARY INFORMATION: The Department is submitting the proposed information collection to OMB for review as required by the Paperwork Reduction Act of 1995 (44 U.S.C. chapter 35, amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses. The Notice is soliciting comments from members of the public and affected agencies concerning the proposed collection of information to: evaluate whether the proposed collection of information is necessary for the proper performance of the functions of the agency, including whether the information will have practical utility; evaluate the accuracy of the agency's estimate.

This Notice also lists the following information:

Title of Proposal(s): Closeout Notice for CDBG Programs.

HUD 7082-Funding Approval Form.

OMB Control Number, if applicable:

Description of the need for the information and proposed use:

Closeout Notice for CDBG Programs

The closeout instructions apply to Community Development Block Grant (CDBG) programs (State CDBG Program, CDBG Disaster Recovery Supplemental Funding, CDBG-Recovery Act (CDBG-R)) and Neighborhood Stabilization Programs (NSP) 1, 2, & 3. Section 570.509 of the CDBG regulations contains the grant closeout criteria for Entitlement jurisdictions when HUD determines, in consultation with the recipients that a grant can be closed. The State CDBG program does not have a regulatory requirement for closeouts but has relied on administrative guidance. This is also true for the NSP, CDBG Disaster Recovery and CDBG-R programs administrated by the state. States will use the Notice as a vehicle to verify that State CDBG funds have been properly spent before a grant may be officially closed. The HUD field office will prepare and send a closeout package that includes a transmittal letter, grant closeout agreement, grantee closeout certification and a closeout checklist to the grantee via email or standard mail. The information in the closeout package will assist the Department in determining whether all requirements of the contract between the Department and the Grantee have been completed.

The HUD 7082 Funding Approval Form

The Grant Agreement between the Department of Housing and Urban Development (HUD) and the Grantee is made pursuant to the authority of Title I of the Housing and Community Development Act of 1974, as amended, (42 USC 5301 et seq.). HUD will make the funding assistance as specified to the grantee upon execution of the Agreement.

Agency for numbers, if applicable: Not applicable

Members of affected public: This information collection applies to all States, Entitlement jurisdictions, Insular Areas, non-entitlement counties in Hawaii and those non-entitlement counties directly funded by NSP 3.

Estimation of the Total Numbers of Hours Needed To Prepare the Information Collection Including Number of Respondent, Frequency of Response, and Hours of Response: The estimated combined number of respondents is 3,077 for the grant closeout task and for the HUD 7082 funding approval form. The proposed frequency of the response to the collection of information is annual to initiate the grant closeout reporting and submission of the funding approval agreement. The total annual reporting for grant closeout is estimated at 2399.34 hours for 1,621 grant recipients. The annual submission of the HUD 7082 funding approval form is estimated at 364 hours for 1,456 grant recipients.

Status of the Proposed Information Collection:

This is a new collection.

Authority: The paperwork Reduction Act of 1995, 44 U.S.C. Chapter 35, as amended.

Dated: May 27, 2011.
Mercedes Márquez,
Assistant Secretary for Community Planning and Development.

Grant Closeout
Grant program closeout task | Number of respondents | Annual frequency per response | Burden hours per response | Total burden hours
State
CDBG States | 50 | 1 | 3 | 150
CDBG-R | 50 | .33 | 3 | 49.5
Disaster ¹ | 10 | 1 | 3 | 30
NSP ² | 51 | 1 | 3 | 153
States Total | 161 | 3.33 | 12 | 382.5
Nonentitlement Counties in Hawaii
CDBG-R | 3 | .33 | 3 | 2.97
Counties in Hawaii Total | 3 | .33 | 3 | 2.97
Entitlement Jurisdictions
NSP ² | 288 | 1 | 3 | 864
CDBG-R | 1110 | .33 | 3 | 1098.9
Entitlement Total | 1398 | 1.33 | 6 | 1962.9
Nonentitlement Direct Grantees
NSP-3 | 31 | .25 | 3 | 23.25
Nonentitlement Total | 31 | .25 | 3 | 23.25
Non-Profit and Quasi-Public Direct Grantees Responsibilities
NSP-2 | 20 | .33 | 3 | 19.8
Non-Profits and Quasi-Public Total | 20 | .33 | 3 | 19.8
Insular Areas
NSP-1 | 4 | .33 | 3 | 3.96
CDBG-R | 4 | .33 | 3 | 3.96
Insular Area Total | 8 | .66 | 6 | 7.92
Grant Closeout Total | 1,621 | 6.23 | 33 | 2399.34
¹ Disaster recovery funds are contingent upon if the President declared a major disaster and Congress provided a supplemental appropriation.
² NSP includes 1, 2, & 3 unless otherwise specified.

Funding Approval/Agreement 7082 Form
Funding approval/agreement form for grant programs | Number of respondents | Annual frequency per response | Burden hours per response | Total burden hours
State
CDBG State | 50 | 1 | .25 | 12.5
Disaster ¹ | 10 | 1 | .25 | 2.5
NSP-3 | 51 | 1 | .25 | 12.75
State Total | 111 | 3 | .75 | 27.75
Nonentitlement Counties in Hawaii
CDBG | 3 | 1 | .25 | .75
Counties in Hawaii Total | 3 | 1 | .25 | .75
Entitlement Jurisdictions
CDBG | 1,110 | 1 | .25 | 277.5
NSP-3 | 197 | 1 | .25 | 49.25
Entitlement Total | 1307 | 2 | .50 | 326.75
Nonentitlement Direct Grantees
NSP-3 | 31 | 1 | .25 | 7.75
Nonentitlement Direct Grantees Total | 31 | 1 | .25 | 7.75
Insular Areas
CDBG | 4 | 1 | .25 | 1.0
Insular Area Total | 4 | 1 | .25 | 1.0
Funding Approval Total | 1,456 | 8 | 2.0 | 364
¹ Disaster recovery funds are contingent upon if the President declared a major disaster and Congress provided a supplemental appropriation.

[FR Doc. 2011-14600 Filed 6-13-11; 8:45 am]

BILLING CODE 4210-67-P